DEPARTMENT OF COMMERCE

National Oceanic and Atmospheric Administration

[RTID 0648-XD839]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day hybrid meeting with both in-person and remote participation to consider actions affecting New England fisheries in the exclusive economic zone (EEZ).

DATES: The meeting will be held on Tuesday, April 16, 2024 through Thursday, April 18, 2024, beginning at 10 a.m. on Tuesday, April 16th and 9 a.m. on Wednesday, April 17 and Thursday, April 18, 2024.

ADDRESSES: The meeting will take place at the Hilton Mystic, 20 Coogan Boulevard, Mystic, CT 06355; telephone: (860) 572-0731; online at https://www.hilton.com/en/hotels/mysmhhf-hilton-mystic. Join the webinar at https://register.gotowebinar.com/register/4261104974602457941.

Council address: New England Fishery Management Council, 50 Water Street, Mill 2, Newburyport, MA 01950; telephone: (978) 465-0492; www.nefmc.org.

FOR FURTHER INFORMATION CONTACT: Cate O'Keefe, Executive Director, New England Fishery Management Council; telephone: (978) 465-0492, ext. 113.

SUPPLEMENTARY INFORMATION:

Agenda

Tuesday, April 16, 2024

The Council will begin this meeting with brief announcements, followed by reports on recent activities from the Council's Chair and Executive Director, the GARFO Regional Administrator, the NOAA Office of General Counsel, the Northeast Fisheries Science Center (NEFSC) Director, the Mid-Atlantic Fishery Management Council liaison, and representatives from the Atlantic States Marine Fisheries Commission (ASMFC), the U.S. Coast Guard, NOAA's Office of Law Enforcement, and the U.S. Fish and Wildlife Service. The Council then will receive a presentation from the Council chair on preventing harassment in the fishery management council process. The Enforcement Committee report will be next. The committee will provide guidance on: (1) use of vessel monitoring systems (VMS) in enforcement and scallop VMS reporting rates; (2) evolving on-demand fishing gear programs; and (3) enforceability of closed area polygon boundaries.

After the lunch break, the Council will receive a brief Scallop Committee report with an overview of the 2024 scallop workplan. Then, the Council will devote the rest of the afternoon to a discussion about the Northern Edge of Georges Bank, beginning with an analysis of the concept areas for potential scallop fishery access to the habitat closure area and then a full Council discussion about action or direction on the preparation of management alternatives. Following the adjournment of official business, the Council will host a public outreach session to foster open lines of communication among Council members, staff, industry, and all meeting attendees. This event will be held at the Hilton Mystic in the restaurant/lobby area.

Wednesday, April 17, 2024

The Council will begin the second day of its meeting with the Northeast Fisheries Science Center's presentation on the peer reviewed results of the Applying State Space Models Research Track. Next, the Risk Policy Working Group will present proposed revisions to the Council's Risk Policy. The Council will engage in a discussion about the revisions and path forward. The first part of the Habitat Committee report will follow. The Council will receive: (1) input from a Scientific and Statistical Committee (SSC) subpanel on the Essential Fish Habitat (EFH) Review; and (2) Habitat Plan Development Team updates on EFH review components.

Following the lunch break, the Council will receive the second part of the Habitat Committee report. Offshore wind developers will provide updates about their respective projects regarding project status, surveys, fisheries mitigation, and other topics. The Council then will receive a report on outcomes from a recent EFH Climate Resilience Workshop and other habitat-related updates. The Monkfish Committee report will be next. The Council will take final action on Framework Adjustment 15 to the Monkfish Fishery Management Plan (FMP). This framework is a joint action with the Mid-Atlantic Fishery Management Council to reduce monkfish and spiny dogfish large-mesh gillnet fishery interactions with Atlantic sturgeon. Next, the Council will receive a progress report on Amendment 10 to the Atlantic Herring FMP, which is an action to: (1) minimize user conflicts; (2) contribute to optimum yield; (3) support rebuilding of Atlantic herring; and (4) enhance river herring and shad avoidance and catch reduction. The full Council then will adjourn for the day. Shortly afterward, at 6 p.m., in the same meeting room, the Council will hold a public scoping meeting on Atlantic Herring Amendment 10.

Thursday, April 18, 2024

The Council will lead off the third day of its meeting with the Northeast Trawl Advisory Panel (NTAP) report, which will include overviews of: (1) NTAP's recent Bigelow Continency Plan Working Group meeting; (2) continued discussions on the Industry-Based Survey Pilot Project; and (3) other NOAA Ship Henry B. Bigelow continency options. Next, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf. The comment period will be followed by the Groundfish Committee report. The Council will receive an SSC subpanel report on an Atlantic cod stock structure management strategy evaluation (MSE) review. The Council then will receive an update on upcoming public workshops and the proposed phases of work related to its Atlantic Cod Management Transition Plan. The Council also will discuss options for incorporating the four biological stock units of Atlantic cod into the Northeast Multispecies (Groundfish) Fishery Management Plan. Finally, the Council will receive an update on work to review flatfish sub-annual catch limits and accountability measures. The Council then will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Executive Director Cate O'Keefe (see ADDRESSES) at least 5 days prior to the meeting date.

Authority: 16 U.S.C. 1801 et seq.

Dated: March 26, 2024.
Rey Israel Marquez,
Acting Deputy Director, Office of Sustainable Fisheries, National Marine Fisheries Service.

[FR Doc. 2024-06746 Filed 3-28-24; 8:45 am]

BILLING CODE 3510-22-P